EQUAL EMPLOYMENT OPPORTUNITY COMMISSION

Sunshine Act Meeting

TIME AND DATE: Thursday, January 14, 2021, 1:00 p.m. Eastern Time.

PLACE: Because of the COVID-19 pandemic, the meeting will be held as an audio-only conference. The public may listen to the audio-only conference by following the instructions that will be posted on www.eeoc.gov 24 hours before the meeting. Closed captioning services will be available.

STATUS: A portion of the meeting will be open to the public.

MATTERS TO BE CONSIDERED:

The following items will be considered at the meeting's open session:

Resolution Concerning the Commission's Authority to Commence or Intervene in Litigation

Revised Procedures for Commission Approval of Amicus Curiae Participation

The following item will be considered at the meeting's closed session:

Recommendation to participate as amicus curiae

The Legal Counsel has certified that, in his opinion, the portion of the Commission meeting scheduled for January 14, 2021 concerning participation as amicus curiae may properly be closed under the 10th exemption to the Government in the Sunshine Act, 5 U.S.C. 552b(c)(10), and Commission regulation at 29 CFR 1612.4(j).

Note: In accordance with the Sunshine Act, the public will be able to listen to the Commission's deliberations and voting in the open session. (In addition to publishing notices on EEOC Commission meetings in the Federal Register, the Commission also provides information about Commission meetings on its website, www.eeoc.gov, and provides a recorded announcement a week in advance on future Commission meetings.)

Please telephone (202) 663-7100 (voice) or (202) 921-2750, or email commissionmeetingcomments@eeoc.gov at any time for information on this meeting.

CONTACT PERSON FOR MORE INFORMATION: Rachel V. See, Acting Executive Officer, (202) 921-2545.

Dated: January 7, 2021.
Rachel V. See,
Acting Executive Officer, Executive Secretariat.

[FR Doc. 2021-00377 Filed 1-7-21; 4:15 pm]

BILLING CODE 6570-01-P